DEPARTMENT OF TRANSPORTATION

Coast Guard

33 CFR Part 2

[USCG 2001-9044]

RIN 2115-AG13

Territorial Seas, Navigable Waters, and Jurisdiction

AGENCY: Coast Guard, DOT.

ACTION: Notice of proposed rulemaking; correction.

SUMMARY: On August 14, 2002, we published a notice of proposed rulemaking to conform the Coast Guard's definitions of jurisdictional terms to existing law. In our proposed revision of 33 CFR part 2, we inadvertently omitted the contents of footnote 2. This document corrects that omission.

DATES: Comments and related materials on our corrected proposed rule must reach the Docket Management Facility on or before November 12, 2002.

ADDRESSES: To make sure that your comments and related materials are not entered more than once in the docket, please submit them by only one of the following means:

(1) By mail to the Docket Management Facility (USCG-2001-9044), U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) By electronic means through the Web Site for the Docket Management System at http://dms.dot.gov.

The Docket Management Facility maintains the public docket for this rulemaking. Comments and materials received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this proposed rule, call Alex Weller, Office of Maritime and International Law, U.S. Coast Guard, telephone 202-267-0097. If you have questions on viewing or submitting materials to the docket, call Dorothy Beard, Chief, Dockets, Department of Transportation, telephone 202-366-5149.

SUPPLEMENTARY INFORMATION:

Need for Correction

On August 14, 2002, we published a notice of proposed rulemaking (NPRM) to conform the Coast Guard's definitions of jurisdictional terms to existing law (67 FR 52906). Because we did not intend to omit the contents of a footnote in our proposed revision of 33 CFR part 2, we are publishing this correction to our proposed rule.

Discussion of Correction of Proposed Rule

In 33 CFR, current §§ 2.05-25 (Navigable waters of the United States; Navigable Waters; Territorial Waters) and 2.05-30 (Waters subject to the jurisdiction of the United States; waters over which the United States has jurisdiction) both reference a footnote 2. That footnote informs the reader that the use of the terms “State” and “United States” in these two sections should be considered supplementary to, and not as interpretive of, the statutory definitions of these terms. We mistakenly omitted the contents of footnote 2 from our proposed rule.

Rather than inserting the same footnote in our proposed §§ 2.36 and 2.38 that correspond to §§ 2.05-25 and 2.05-30, we instead are including this information in our note to proposed § 2.5 (Specific definitions control). The current note to § 2.5 provides examples of how a specific statutory and regulatory definition would supersede definitions in 33 CFR part 2. We propose to add the following two sentences to this note: “Also, in various laws administered and enforced by the Coast Guard, the terms “State” and “United States” are defined to include some or all of the territories and possessions of the United States. The definitions in §§ 2.36 and 2.38 should be considered as supplementary to these statutory definitions and not as interpretive of them.”

Correction

In proposed rule FR Doc. 02-20481, beginning on page 52906 in the issue of August 14, 2002, make the following correction:

§ 2.5 [Corrected]

On page 52911, in the first column, starting on line 14, at the end of Note to § 2.5, add the following sentences: “Also, in various laws administered and enforced by the Coast Guard, the terms “State” and “United States” are defined to include some or all of the territories and possessions of the United States. The definitions in §§ 2.36 and 2.38 should be considered as supplementary to these statutory definitions and not as interpretive of them.”

Dated: September 13, 2002.
R. F. Duncan,
Chief Counsel, U.S. Coast Guard.

[FR Doc. 02-23754 Filed 9-17-02; 8:45 am]

BILLING CODE 4910-15-P